ENVIRONMENTAL PROTECTION AGENCY

40 CFR Part 63

[FRL-7225-7]

RIN 2060-AE77

National Emission Standards for Hazardous Air Pollutants for Secondary Aluminum Production

AGENCY: Environmental Protection Agency (EPA).

ACTION: Proposed rule; amendments.

SUMMARY: On March 23, 2000, the EPA issued national emission standards for hazardous air pollutants for secondary aluminum production under section 112 of the Clean Air Act (CAA). This proposal would amend the standards to clarify compliance dates and defer certain early compliance obligations. These amendments are proposed as part of settlement agreements with industry trade associations, including the Aluminum Association and the American Foundrymen's Society.

In the Rules and Regulations section of to Federal Register, we are making these amendments in a direct final NESHAP without prior proposal because we view the revisions as noncontroversial and anticipate no adverse comments. We have explained our reasons for these revisions in the direct final rule. If we receive no significant adverse comments, we will take no further action on this proposed rule. If we receive significant adverse comments, we will withdraw only those provisions on which we received significant adverse comments. We will publish a timely withdrawal in the Federal Register indicating which provisions will become effective and which provisions are being withdrawn. If part or all of the direct final rule in the Rules and Regulations section of today's Federal Register is withdrawn, all comments pertaining to those provisions will be addressed in a subsequent final rule based on this proposed rule.

DATES: Comments. We must receive written comments on or before July 15, 2002, unless a hearing is requested by June 24, 2002. If a timely hearing request is submitted, we must receive written comments on or before July 29, 2002.

Public Hearing. If anyone contacts the EPA requesting to speak at a public hearing by June 24, 2002, a public hearing will be held on June 28, 2002.

ADDRESSES: Comments. By U.S. Postal Service, send comments (in duplicate, if possible) to: Air and Radiation Docket and Information Center (6102), Attention Docket No. A-2002-05, U.S. EPA, 1200 Pennsylvania Avenue, NW., Washington, DC 20460. In person or by courier, deliver comments (in duplicate, if possible) to: Air and Radiation Docket and Information Center (6102), Attention Docket No. A-2002-05, Room M-1500, U.S. EPA, 401 M Street, SW., Washington, DC 20460. We request a separate copy of each public comment be sent to the contact person listed below (see FOR FURTHER INFORMATION CONTACT).

Public Hearing. If a public hearing is held, it will be held at the EPA Office of Administration Auditorium, Research Triangle Park, North Carolina beginning at 10 a.m.

Docket. Docket No. A-2002-05 contains supporting information used in developing the amendments. The docket is located at the U.S. EPA, 401 M Street, SW., Washington, DC 20460 in room M-1500, Waterside Mall (ground floor), and may be inspected from 8:30 a.m. to 5:30 p.m., Monday through Friday, excluding legal holidays.

FOR FURTHER INFORMATION CONTACT: Mr. John Schaefer, U.S. EPA, Minerals and Inorganic Chemicals Group, Emission Standards Division (Mail Code C504-05), Office of Air Quality Planning and Standards, Research Triangle Park, NC 27711, telephone number (919) 541-0296, electronic mail address, schaefer.john@epa.gov.

SUPPLEMENTARY INFORMATION: Comments. Comments and data may be submitted by electronic mail (e-mail) to air-and-r-docket@epa.gov. Electronic comments must be submitted as an ASCII file to avoid the use of special characters and encryption problems and will also be accepted on disks in WordPerfect® file format. All comments and data submitted in electronic form must note the docket number: A-2002-05. No confidential business information (CBI) should be submitted by e-mail. Electronic comments may be filed online at many Federal Depository Libraries.

Commenters wishing to submit proprietary information for consideration must clearly distinguish such information from other comments and label it as CBI. Send submissions containing such proprietary information directly to the following address, and not to the public docket, to ensure that proprietary information is not inadvertently placed in the docket: Mr. Roberto Morales, OAQPS Document Control Officer (C404-02), U.S. EPA, Research Triangle Park, NC 27711, Attn: Mr. John Schaefer. The EPA will disclose information identified as CBI only to the extent allowed by the procedures set forth in 40 CFR part 2. If no claim of confidentiality accompanies a submission when it is received by EPA, the information may be made available without further notice to the public.

Public Hearing. Persons interested in attending the hearing or inquiring as to whether a hearing is to be held should notify Ms. Tanya Medley, U.S. EPA, Minerals and Inorganic Chemicals Branch (C504-05), Emission Standards Division, Office of Air Quality Planning and Standards, Research Triangle Park, NC 27711, telephone (919) 541-5422, at least 2 days in advance of the hearing. Persons interested in attending the public hearing should also call Ms. Tanya Medley to verify the time, date, and location of the hearing. The public hearing will provide interested parties the opportunity to present data, views, or arguments concerning these proposed amendments.

Docket. The docket is an organized and complete file of the administrative record compiled by EPA in the development of these amendments. The docket is a dynamic file because information is added throughout the rulemaking process. The docketing system is intended to allow members of the public and industries involved to readily identify and locate documents so they can effectively participate in the rulemaking process. Along with the direct final rule and preamble and this accompanying proposal, the contents of the docket will serve as the record in the case of judicial review. (See section 307(d)(7)(A) of the Clean Air Act.) The regulatory text and other materials related to this rulemaking are available for review in the docket or copies may be mailed on request from the Air Docket by calling (202) 260-7548. A reasonable fee may be charged for copying docket materials.

Worldwide Web (WWW). In addition to being available in the docket, an electronic copy of today's proposal will also be available on the WWW through the Technology Transfer Network (TTN). Following signature, a copy of these actions will be posted on the TTN's policy and guidance page for newly proposed rules at http://www.epa.gov/ttn/oarpg. The TTN provides information and technology exchange in various areas of air pollution control. If more information regarding the TTN is needed, call the TTN HELP line at (919) 541-5384.

Regulated Entities. Entities potentially regulated by this action are the same as the existing rule in 40 CFR part 63, subpart RRR. These include secondary aluminum production facilities using clean charge, post-consumer scrap, aluminum scrap, ingots, foundry returns, dross, or molten metal as the raw material, and performing one or more of the following processes: aluminum scrap shredding, scrap drying/delacquering/decoating, thermal chip drying, furnace operations (i.e., melting, holding, refining, fluxing, or alloying), in-line fluxing, or dross cooling. Affected sources at facilities that are major sources of HAP are regulated under the final rule. Secondary aluminum production facilities that are collocated with primary aluminum production also are regulated under today's final rule. In addition, emissions of dioxins and furans from affected sources at facilities that are area sources of HAPs are also regulated. Regulated categories and entities include:

Category | NAICS code | SIC code | Examples of regulated entities
Industry | 331314 | 3341 | Secondary smelting and alloying of aluminum facilities. Secondary aluminum production facility affected sources that are collocated at:
| 331312 | 3334 | Primary aluminum production facilities.
| 331315 | 3353 | Aluminum sheet, plate, and foil manufacturing facilities.
| 331316 | 3354 | Aluminum extruded product manufacturing facilities.
| 331319 | 3355 | Other aluminum rolling and drawing facilities.
| 331521 | 3363 | Aluminum die casting facilities.
| 331524 | 3365 | Aluminum foundry facilities.
State/local/tribal governments |  |  | Not affected.
Federal government |  |  | Not affected.

This table is not intended to be exhaustive, but rather provides a guide for readers regarding entities likely to be regulated by this action. This table lists the types of entities that the Agency is now aware could potentially be regulated by this action. Other types of entities not listed in the table could also be regulated. To determine whether your facility is regulated by this action, you should carefully examine the applicability criteria in § 63.1500 of the rule. If you have questions regarding the applicability of this action to a particular entity, consult the contact person listed in the preceding FOR FURTHER INFORMATION CONTACT section.

A direct final rule identical to this proposal is published in the Rules and Regulations section of today's Federal Register. If we receive any significant adverse comment pertaining to one or more distinct amendments in this proposal, we will publish a timely notice in the Federal Register informing the public which amendments will become effective and which amendments are being withdrawn due to adverse comment. We will address all public comments concerning any withdrawn amendments in a subsequent final rule. If no relevant adverse comments are received, no further action will be taken on this proposal and the direct final rule will become effective as provided in that notice.

The regulatory text for this proposal is identical to that for the direct final rule published in the Rules and Regulations section of today's Federal Register. For further supplementary information, see the direct final rule.

Administrative Requirements. The Regulatory Flexibility Act (RFA), as amended by the Small Business Regulatory Enforcement Fairness Act of 1996 (SBREFA), 5 U.S.C. 601 et seq., generally requires an agency to prepare a regulatory flexibility analysis of any rule subject to notice and comment rulemaking requirements under the Administrative Procedure Act or any other statute unless the Agency certifies that the rule will not have a significant economic impact on a substantial number of small entities. Small entities include small businesses, small organizations, and small governmental jurisdictions.

For purposes of assessing the impacts of today's proposed rule amendments on small entities, a small entity is defined as: (1) A small business whose parent company has fewer than 750 employees; (2) a small governmental jurisdiction that is a government of a city, county, town, school district or special district with a population of less than 50,000; or (3) a small organization that is any not-for-profit enterprise which is independently owned and operated and is not dominant in its field.

We believe there will be little or no impact on small entities because the purpose of today's proposed amendments is to clarify the rule, and the changes will not impose new requirements or compliance costs on industry. The Administrator certifies that this action will not have a significant economic impact on a substantial number of small entities.

For information regarding other administrative requirements for this action, please see the direct final rule located in the Rules and Regulations section of today's Federal Register.

List of Subjects in 40 CFR Part 63

Environmental protection, Administrative practice and procedure, Air pollution control, Hazardous substances, Recordkeeping and reporting requirements.

Dated: May 31, 2002.
Christine Todd Whitman,
Administrator.

[FR Doc. 02-14626 Filed 6-13-02; 8:45 am]

BILLING CODE 6560-50-P